NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research (DMR)—Platform for the Accelerated Realization, Analysis, and Discovery of Interface Materials (PARADIM) Site Visit (#1203).

Date and Time: July 15, 2024; 8:00 a.m.-6:30 p.m., July 16, 2024; 8:00 a.m.-3:30 p.m.

Place: Upson Hall, Cornell University, 124 Hoy Rd., Ithaca, NY 14850.

Type of Meeting: Part-open

Contact Person: Z. Charles Ying, Program Director, Division of Materials Research, National Science Foundation, 2415 Eisenhower Avenue, Alexandria, VA 22314; Telephone (703) 292-8428.

Purpose of Meeting: NSF site visit to provide advice and recommendations concerning further support of the PARADIM at Cornell University.

Agenda

Monday, July 15, 2024

8:00 a.m.-8:50 a.m.—Executive Session (Closed)

8:50 a.m.-11:30 a.m.—Review of PARADIM (Open)

11:30 a.m.-2:00 p.m.—Executive Session (Closed)

2:00 p.m.-3:15 p.m.—Review of PARADIM (Open)

3:15 p.m.-6:30 p.m.—Executive Session (Closed)

Tuesday, July 16, 2024

8:00 a.m.-3:30 p.m.—Executive Session (Closed)

Reason for Closing: Topics to be discussed and evaluated during closed portions of the site review will include information of a proprietary or confidential nature, including technical information; and information on personnel. These matters are exempt under 5 U.S.C. 552b(c), (4) and (6) of the Government in the Sunshine Act.

Dated: June 14, 2024.
Crystal Robinson,
Committee Management Officer.

[FR Doc. 2024-13519 Filed 6-20-24; 8:45 am]

BILLING CODE 7555-01-P